DEPARTMENT OF TRANSPORTATION

Federal Aviation Administration

14 CFR Part 39

[Docket No. FAA-2004-19768; Directorate Identifier 2004-NM-184-AD; Amendment 39-13990; AD 2005-05-02]

RIN 2120-AA64

Airworthiness Directives; McDonnell Douglas Model MD-90-30 Airplanes

AGENCY: Federal Aviation Administration (FAA), Department of Transportation (DOT).

ACTION: Final rule.

SUMMARY: The FAA is adopting a new airworthiness directive (AD) for all McDonnell Douglas Model MD-90-30 airplanes. This AD requires a general visual inspection in the electrical/electronics (E/E) compartment for damage of the wire bundle and aft right radio rack structure at station 160.000, and corrective actions if necessary. This AD also requires modifying the radio rack structure and wire bundle routing. This AD is prompted by a report indicating that burnt wiring was discovered in the wire bundle at station 160.000 in the E/E compartment. We are issuing this AD to detect and correct chafing of the wire bundle at station 160.000 against the support bracket located on the aft right radio rack, which could lead to shorted or burnt wires and consequent smoke and fire in the E/E compartment.

DATES: This AD becomes effective April 6, 2005.

The incorporation by reference of a certain publication listed in the AD is approved by the Director of the Federal Register as of April 6, 2005.

ADDRESSES: For service information identified in this AD, contact Boeing Commercial Airplanes, Long Beach Division, 3855 Lakewood Boulevard, Long Beach, California 90846, Attention: Data and Service Management, Dept. C1-L5A (D800-0024). You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19768; the directorate identifier for this docket is 2004-NM-184-AD.

FOR FURTHER INFORMATION CONTACT: George Mabuni, Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: The FAA proposed to amend 14 CFR Part 39 with an AD for all McDonnell Douglas Model MD-90-30 airplanes. That action, published in the Federal Register on December 14, 2004 (69 FR 74463), proposed to require a general visual inspection in the electrical/electronics (E/E) compartment for damage of the wire bundle and aft right radio rack structure at station 160.000, and corrective actions if necessary. That action also proposed to require modifying the radio rack structure and wire bundle routing.

Comments

We provided the public the opportunity to participate in the development of this AD. No comments have been submitted on the proposed AD or on the determination of the cost to the public.

Conclusion

We have carefully reviewed the available data and determined that air safety and the public interest require adopting the AD as proposed.

Change to This AD

We have changed the manufacturer name on the service bulletin citation in this AD from McDonnell Douglas to Boeing to reflect current guidelines established by the Office of the Federal Register for material incorporated by reference.

Costs of Compliance

There are about 105 airplanes of the affected design in the worldwide fleet. This AD will affect about 21 airplanes of U.S. registry. The required actions will take about 5 work hours per airplane, at an average labor rate of $65 per work hour. Required parts will cost about $3,479 per airplane. Based on these figures, the estimated cost of the AD for U.S. operators is $79,884, or $3,804 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-02 McDonnell Douglas: Amendment 39-13990. Docket No. FAA-2004-19768; Directorate Identifier 2004-NM-184-AD.

Effective Date

(a) This AD becomes effective April 6, 2005.

Affected ADs

(b) None.

Applicability

(c) This AD applies to all McDonnell Douglas Model MD-90-30 airplanes; certificated in any category.

Unsafe Condition

(d) This AD was prompted by a report indicating that burnt wiring was discovered in the wire bundle at station 160.000 in the electrical/electronics (E/E) compartment. We are issuing this AD to detect and correct chafing of the wire bundle at station 160.000 against the support bracket located on the aft right radio rack, which could lead to shorted or burnt wires and consequent smoke and fire in the E/E compartment.

Compliance

(e) You are responsible for having the actions required by this AD performed within the compliance times specified, unless the actions have already been done.

Inspection

(f) Within 18 months after the effective date of this AD, perform a general visual inspection in the E/E compartment for damage of the wire bundle and aft right radio rack structure at station 160.000; do any applicable corrective actions; and modify the radio rack structure and reroute the wire assembly; by accomplishing all of the actions specified in the Accomplishment Instructions of Boeing Alert Service Bulletin MD90-24A080, Revision 1, dated August 5, 2004.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Alternative Methods of Compliance (AMOCs)

(g) The Manager, Los Angeles Aircraft Certification Office, FAA, has the authority to approve AMOCs for this AD, if requested in accordance with the procedures found in 14 CFR 39.19.

Material Incorporated by Reference

(h) You must use Boeing Alert Service Bulletin MD90-24A080, Revision 1, dated August 5, 2004, to perform the actions that are required by this AD, unless the AD specifies otherwise. The Director of the Federal Register approves the incorporation by reference of this document in accordance with 5 U.S.C. 552(a) and 1 CFR part 51. For copies of the service information, contact Boeing Commercial Airplanes, Long Beach Division, 3855 Lakewood Boulevard, Long Beach, California 90846, Attention: Data and Service Management, Dept. C1-L5A (D800-0024). For information on the availability of this material at the National Archives and Records Administration (NARA), call (202) 741-6030, or go to http://www.archives.gov/federal_register/code_of_federal_regulations/ibr_locations.html. You may view the AD docket at the Docket Management Facility, U.S. Department of Transportation, 400 Seventh Street SW, room PL-401, Nassif Building, Washington, DC.

Issued in Renton, Washington, on February 16, 2005.
Ali Bahrami,
Manager, Transport Airplane Directorate, Aircraft Certification Service.

[FR Doc. 05-3785 Filed 3-1-05; 8:45 am]

BILLING CODE 4910-13-P